INTERNATIONAL TRADE COMMISSION

[USITC SE-02-006]

Sunshine Act; Meeting

Agency Holding the Meeting: United States International Trade Commission.

Time and Date: March 19, 2002 at 2:00 p.m.

Place: Room 101, 500 E Street SW., Washington, DC 20436, Telephone: (202) 205-2000.

Status: Open to the public.

Matters to Be Considered: 1. Agenda for future meeting: none.

2. Minutes.

3. Ratification List.

4. Inv. No. 731-TA-922 (Final) (Automotive Replacement Glass Windshields from China)—briefing and vote. (The Commission is currently scheduled to transmit its determination and Commissioners' opinions to the Secretary of Commerce on or before March 28, 2002.)

5. Outstanding action jackets: none.

In accordance with Commission policy, subject matter listed above, not disposed of at the scheduled meeting, may be carried over to the agenda of the following meeting.

Issued: March 12, 2002
By order of the Commission:
Marilyn R. Abbott,
Secretary.

[FR Doc. 02-6460 Filed 3-13-02; 2:46 pm]

BILLING CODE 7020-02-P